DEPARTMENT OF ENERGY

30-Day Federal Register Notice—Extension of Generic Clearance for the Collection of Qualitative Feedback on Agency Service Delivery

AGENCY: U.S. Department of Energy.

ACTION: Notice and request for comments.

SUMMARY: The Department of Energy (DOE), as part of its continuing effort to reduce paperwork and respondent burden, invites the general public to comment on the “Generic Clearance for the Collection of Qualitative Feedback on Agency Service Delivery” for approval under the Paperwork Reduction Act (PRA). This collection was developed as part of a Federal Government-wide effort to streamline the process for seeking feedback from the public on service delivery. This notice announces DOE's intent to submit this collection to the Office of Management and Budget (OMB) for approval and solicits comments on specific aspects of the proposed information collection.

DATES: Comments regarding this collection must be received on or before March 30, 2018. If you anticipate difficulty in submitting comments by the deadline, as soon as possible, please advise the OMB Desk Officer of your intention to make a submission. The OMB Desk Officer may be telephoned at 202-395-4718.

ADDRESSES: Written comments should be sent to the OMB Desk Officer, Office of Information and Regulatory Affairs, Office of Management and Budget, New Executive Office Building, 735 17th Street NW, Room 10102, Washington, DC 20503 and to the Office of the Chief Information Officer, U.S. Department of Energy, 19901 Germantown Road, Room G-312, Germantown, MD 20874. Comments can also be emailed to DOE's Paperwork Reduction Act mailbox at DOEPRA@hq.doe.gov.

FOR FURTHER INFORMATION CONTACT: Requests for additional information should be directed to Christina Rouleau, Paperwork Reduction Act Officer, Office of the Chief Information Officer, U.S. Department of Energy, 19901 Germantown Road, Room G-312, Germantown, MD 20874. Desk Phone: (301) 903-6227; Email: DOEPRA@hq.doe.gov.

SUPPLEMENTARY INFORMATION: This information collection request contains: (1) OMB No. 1910-5160; (2) Information Collection Request Title: “Generic Clearance for the Collection of Qualitative Feedback on Agency Service Delivery;” (3) Type of Request: Extension; (4) Purpose: The proposed information collection activity provides a means to garner qualitative customer and stakeholder feedback in an efficient, timely manner in accordance with the Administration's commitment to improving service delivery. “Qualitative feedback” refers to information that provides useful insights on perceptions and opinions but not statistical surveys that yield quantitative results that can be generalized to the population of study. This feedback will provide insights into customer or stakeholder perceptions, experiences and expectations, provide an early warning of issues with service, or focus attention on areas where communication, training, or changes in operations might improve delivery of products or services. These collections will allow for ongoing, collaborative, and actionable communications between DOE and its customers and stakeholders. It will also allow feedback to contribute directly to the improvement of program management; (5) Annual Estimated Number of Respondents: 10,000; (6) Annual Estimated Number of Total Responses: 10,000; (7) Annual Estimated Number of Burden Hours: 200,000; (8) Annual Estimated Reporting and Recordkeeping Cost Burden: There are no costs for Reporting and Recordkeeping.

Statutory Authority: Executive Order 13571, Streamlining Service Delivery and Improving Customer Service (2011).

Issued in Washington, DC on January 10, 2018.
Allan K. Manuel,
Deputy CIO for Enterprise, Policy, Portfolio Management & Governance, Office of the Chief Information Officer, U.S. Department of Energy.

[FR Doc. 2018-04060 Filed 2-27-18; 8:45 am]

BILLING CODE 6450-01-P